DEPARTMENT OF LABOR

Agency Information Collection Activities; Submission for OMB Review; Comment Request; Labor Organization and Auxiliary Reports; Correction

AGENCY: Office of Labor-Management Standards, Department of Labor.

ACTION: Notice of information collection; correction.

SUMMARY: The Office of Labor-Management Standards published a document in the Federal Register of October 3, 2024, concerning request for comments on amending a current information collection request to include employment identification numbers. The document contained an incorrect address for public comments.

FOR FURTHER INFORMATION CONTACT: Karen Torre, Chief of the Division of Interpretations and Regulations, Office of Labor-Management Standards, U.S. Department of Labor, 200 Constitution Avenue NW, Room N-5609, Washington, DC 20210, by telephone at (202) 693-0123 (this is not a toll-free number), (800) 877-8339 (TTY/TDD), or by email at olms-public@dol.gov.

SUPPLEMENTARY INFORMATION:

Correction

In the Federal Register of October 3, 2024, in FR. Doc. 2024-22805, on page 80606, make the following correction:

In the first column, under the heading Addresses, in the fifth line “www.reginfo.gov/public/do/PRAMain.” should read “www.regulations.gov/commenton/LMSO-2024-0001-0001.” Under the same heading Addresses, starting in the sixth line “Find this particular information collection by selecting `Currently under 60-day Review—Open for Public Comments' or by using this search function” should be deleted.

Dated: October 3, 2024.
Jeffrey Freund,
Director, Office of Labor-Management Standards.

[FR Doc. 2024-23346 Filed 10-8-24; 8:45 am]

BILLING CODE 4510-86-P